DEPARTMENT OF JUSTICE

Notice of Lodging of Settlement Agreement in In re Collins & Aikman Corporation, et al. Under the Comprehensive Environmental Response, Compensation and Liability Act (CERCLA) and the Resource Conservation and Recovery Act (RCRA)

Notice is hereby given that on July 5, 2007, a proposed Settlement Agreement was lodged with the United States Bankruptcy Court for the Eastern District of Michigan in In re Collins & Aikman Corporation, et al., Case No. 05-55927. The Settlement Agreement between the United States on behalf of U.S. EPA, Debtor Collins & Aikman Corporation and its Debtor subsidiaries, and Marmon Wire & Cable LLC, relates to certain liabilities under the Comprehensive Environmental Response, Compensation and Liability Act (“CERCLA”), 42 U.S.C. 9601 et seq. and Section 7003 of the Resource Conservation and Recovery Act (“RCRA”), at 42 U.S.C. 6973, in connection with the Mosaic Tile Plant Dump Site in Zanesville, Ohio.

The Department of Justice will receive comments relating to the Settlement Agreement for a period of thirty (30) days from the date of this publication. Commenters may request an opportunity for a public meeting in the affected area, in accordance with Section 7003(d) of RCRA, 42 U.S.C. 6973(d). Comments should be addressed to the Assistant Attorney General, Environment and Natural Resources Division, and either e-mailed to pubcomment-ees.enrd@usdoj.gov or mailed to P.O. Box 7611, U.S. Department of Justice, Washington, DC 20044-7611, and should refer to In re Collins & Aikman Corporation, et al., DJ Ref. No. 90-11-2-08595.

The Settlement Agreement may be examined at the Office of the United States Attorney for the Eastern District of Michigan, 211 W. Fort Street, Suite 2001, Detroit, MI 48226, by request to Assistant U.S. Attorney Julia Pidgeon, and at the U.S. EPA Region V, 77 West Jackson Blvd., Chicago, IL 60604. During the public comment period, the Settlement Agreement may also be examined on the following Department of Justice Web site, http://www.usdoj.gov/enrd/open.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.25 (25 cents per page reproduction cost) payable to the U.S. Treasury.

William D. Brighton,
Assistant Section Chief, Environmental Enforcement Section, Environment and Natural Resources Division.

[FR Doc. 07-3370 Filed 7-10-07; 8:45 am]

BILLING CODE 4410-15-M